DEPARTMENT OF AGRICULTURE

Animal and Plant Health Inspection Service

[Docket No. APHIS-2011-0130]

ArborGen, LLC; Availability of an Environmental Assessment for Controlled Release of a Genetically Engineered Eucalyptus Hybrid

AGENCY: Animal and Plant Health Inspection Service, USDA.

ACTION: Notice.

SUMMARY: We are advising the public that the Animal and Plant Health Inspection Service has prepared an environmental assessment for a proposed controlled field release of a genetically engineered clone of a Eucalyptus hybrid. The purpose of the field release is to assess the effectiveness of gene constructs intended to confer cold tolerance, to test the efficacy of genes introduced to alter lignin biosynthesis, to test the efficacy of genes designed to alter growth, and to test the efficacy of genes designed to alter flowering. After assessing the application for a permit for the field release, reviewing pertinent scientific information, and considering comments from the public, we have concluded that the field release is unlikely to pose a plant pest risk or to have a significant impact on the quality of the human environment. Based on the finding of no significant impact, the Animal and Plant Health Inspection Service has determined that an environmental impact statement need not be prepared for this field release.

DATES: Effective Date: June 6, 2012.

ADDRESSES: You may read the documents referenced in this notice and the comments we received on the Regulations.gov Web site at http://www.regulations.gov/#!docketDetail;D=APHIS-2011-0130. The documents are also available on the Internet at http://www.aphis.usda.gov/brs/biotech_ea_permits.html. You may also view the documents and comments we received in our reading room. The reading room is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. David S. Reinhold, Assistant Director, Environmental Risk Analysis Programs, Biotechnology Regulatory Services, APHIS, 4700 River Road, Riverdale, MD 20737-1236; (301) 851-3885. To obtain copies of the environmental assessment, finding of no significant impact, and responses to comments, contact Ms. Cynthia Eck at (301) 851-3892; email: cynthia.a.eck@aphis.usda.gov.

SUPPLEMENTARY INFORMATION: The regulations in 7 CFR part 340, “Introduction of Organisms and Products Altered or Produced Through Genetic Engineering Which Are Plant Pests or Which There Is Reason to Believe Are Plant Pests,” regulate, among other things, the introduction (importation, interstate movement, or release into the environment) of organisms and products altered or produced through genetic engineering that are plant pests or that there is reason to believe are plant pests. Such genetically engineered organisms and products are considered “regulated articles.” A permit must be obtained or a notification acknowledged before a regulated article may be introduced. The regulations set forth the permit application requirements and the notification procedures for the importation, interstate movement, or release in the environment of a regulated article.

On February 21, 2011, the Animal and Plant Health Inspection Service (APHIS) received a permit application (APHIS No. 11-052-101rm) from ArborGen, LLC, in Summerville, SC, for a controlled field release of genetically engineered Eucalyptus hybrids in six locations encompassing a total of 14.7 acres in the States of Alabama, Florida, Mississippi, and South Carolina.

Permit application 11-052-101rm describes Eucalyptus trees derived from a hybrid of Eucalyptus grandis X Eucalyptus urophylla. The purpose of the field tests is to assess the effectiveness of gene constructs intended to confer cold tolerance; to test the efficacy of genes introduced to alter lignin biosynthesis; to test the efficacy of genes designed to alter growth; and to test the efficacy of genes designed to alter flowering. In addition, the trees have been engineered with a selectable marker that confers resistance to the antibiotic kanamycin. These DNA sequences were introduced into Eucalyptus trees using disarmed Agrobacterium tumefaciens.

The subject Eucalyptus trees are considered regulated articles under 7 CFR part 340 because they were created using donor sequences from plant pests.

To provide the public with documentation of APHIS' review and analysis of any potential environmental impacts and plant pest risks associated with the proposed release under permit of these genetically engineered Eucalyptus trees, APHIS prepared an environmental assessment (EA). APHIS announced the availability of the EA for public comment in a notice published in the Federal Register on February 10, 2012 (77 FR 7123-7124, Docket No. APHIS-2011-0130). Comments on the EA were required to be received on or before March 12, 2012. We received 246 comments by the close of the comment period. All expressed concerns about the permit or opposed granting the permit. APHIS reviewed all comments to identify new issues, alternatives, or information.

Pursuant to the regulations promulgated under the Plant Protection Act, APHIS has determined that this field release is unlikely to pose a risk of introducing or disseminating a plant pest. Additionally, based upon analysis described in the EA, APHIS has determined that the action proposed in Alternative B of the EA—issue the permit with supplemental permit conditions—is unlikely to have a significant impact on the quality of the human environment. The EA and finding of no significant impact (FONSI) are available as indicated in the ADDRESSES section of this notice. Responses to the comments received on the EA are provided as an attachment to the FONSI.

The EA and FONSI were prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Authority: 7 U.S.C. 7701-7772 and 7781-7786; 31 U.S.C. 9701; 7 CFR 2.22, 2.80, and 371.3.

Done in Washington, DC, this 31st day of May 2012.
Kevin Shea
Acting Administrator, Animal and Plant Health Inspection Service.

[FR Doc. 2012-13760 Filed 6-5-12; 8:45 am]

BILLING CODE 3410-34-P